DEPARTMENT OF HEALTH AND HUMAN SERVICES

Centers for Disease Control and Prevention

[30Day-07-0557]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Public Health Performance Standards Program State Public Health System Assessment (OMB 0920-0557)—Revision—Office of the Director (OD), Centers for Disease Control and Prevention (CDC).

Background and Brief Description

The Office of the Director is proposing to revise the currently approved National Public Health Performance Standards Program State Public Health System Assessment. The formal, voluntary data collection that assesses the capacity of state public health systems to deliver the essential services of public health. Electronic data submission will be used when state health departments complete the public health assessment.

A three-year approval is being sought with the revised data collection instrument. The original data collection instrument has been valuable in assessing performance and capacity and identifying areas for improvement. It is anticipated that the updated data collection instrument will be voluntarily used by states for similar purposes.

From 1998-2002, the CDC National Public Health Performance Standards Program convened workgroups with the National Association of County and City Health Officials (NACCHO), The Association of State and Territorial Health Officials (ASTHO), the National Association of Local Boards of Health (NALBOH), the American Public Health Association (APHA), and the Public Health Foundation (PHF) to develop performance standards for public health systems based on the essential services of public health.

In 2005, CDC reconvened workgroups with these same organizations to revise the data collection instruments, in order to ensure the standards remain current and improve user friendliness.

There is no cost to the respondents other than their time. The total estimated annualized burden hours are 96.

Estimate of Annualized Burden Hours
Respondents | Number of respondents | Number of responses per respondent | Average burden per response (in hours)
State Public Health Systems | 8 | 1 | 12

Dated: April 25, 2007.
Maryam Daneshvar,
Acting Reports Clearance Officer, Centers for Disease Control and Prevention.

[FR Doc. E7-8415 Filed 5-2-07; 8:45 am]

BILLING CODE 4163-18-P